DEPARTMENT OF COMMERCE

National Oceanic and Atmospheric Administration

RIN 0648-XF792

Endangered and Threatened Species; Initiation of a 5-Year Review for the Endangered Western Distinct Population Segment of Steller Sea Lion

AGENCY: National Marine Fisheries Service (NMFS), National Oceanic and Atmospheric Administration (NOAA), Commerce.

ACTION: Notice of initiation of 5-year review; request for information.

SUMMARY: We, NMFS, announce our intent to conduct a 5-year review for the endangered western distinct population segment (DPS) of Steller sea lion (Eumetopias jubatus) under the Endangered Species Act of 1973, as amended (ESA). We are required by the ESA to conduct 5-year reviews to ensure that the listing classifications of species are accurate. The 5-year review must be based on the best scientific and commercial data available at the time of the review. We request submission of any such information on the Western DPS of Steller sea lion, particularly information on the status, threats, and recovery of the species that has become available since the final listing determination in May, 1997.

DATES: To allow us adequate time to conduct this review, we must receive your information no later than February 6, 2018. However, we will continue to accept new information about Steller sea lions at any time.

ADDRESSES: Submit your information or comments by including the FDMS Docket Number NOAA-NMFS-2017-0137, by either of the following methods:

• Federal e-Rulemaking Portal. Go to www.regulations.gov/!docketDetail;D=NOAA-NMFS-2017-0137, click the “Comment Now!” icon, complete the required fields, and enter or attach your comments.

• Mail: Submit written information to Jon Kurland, Assistant Regional Administrator for Protected Resources, Alaska Region NMFS, Attn: Ellen Sebastian, P.O. Box 21668, Juneau, AK 99802-1668.

Instructions: We may not consider comments if they are sent by any other method, to any other address or individual, or received after the end of the specified period. All comments received are a part of the public record, and we will generally post for public viewing on www.regulations.gov without change. All personal identifying information (e.g., name, address, etc.), confidential business information, or otherwise sensitive or protected information submitted voluntarily by the sender is publicly accessible. We will accept anonymous comments (enter “N/A” in the required fields if you wish to remain anonymous). Attachments to electronic submissions will be accepted in Microsoft Word, Excel, or Adobe PDF file formats only.

FOR FURTHER INFORMATION CONTACT: Dr. Lisa Rotterman, 907-271-1692 or lisa.rotterman@noaa.gov.

SUPPLEMENTARY INFORMATION:

The Steller sea lion was listed as threatened under the ESA by an emergency interim rule on April 5, 1990 (55 FR 12645). NMFS published a final rule to list the Steller sea lion as a threatened species under the ESA on November 26, 1990 (55 FR 49204). NMFS designated critical habitat for the Steller sea lion on August 27, 1993 (58 FR 45269). On May 5, 1997, based on demographic and genetic dissimilarities, NMFS identified two DPSs of Steller sea lions under the ESA: A western DPS (WDPS) and an eastern DPS (EDPS) (62 FR 24345). Due to persistent decline and lack of recovery, the WDPS, comprised of animals originating from breeding sites west of 144° W longitude, was listed as endangered (62 FR 24345, May 5, 1997), and the EDPS remained listed as threatened.

Section 4(c)(2)(A) of the ESA requires that we conduct a review of listed species at least once every five years. On the basis of such reviews under section 4(c)(2)(B), we determine whether a species should be removed from the List (delisted), or reclassified in status from endangered to threatened or from threatened to endangered. Delisting a species must be supported by the best scientific and commercial data available and is considered only if such data substantiates that the species is neither endangered nor threatened for one or more of the following reasons: (1) The species is considered extinct; (2) the species is considered to be recovered; and/or (3) the original data available when the species was listed, or the interpretation of such data, were in error (see 50 CFR 424.11(d)). Reclassification also must be supported by the best scientific and commercial data available and is considered only after conducting a review of the species' status in light of the listing factors provided in section 4(a)(1) of the ESA (see 50 CFR 424.11(c)). Any change in classification (delisting or reclassification) would require a rulemaking process. The ESA implementing regulations at 50 CFR 424.21 require that we publish a notice in the Federal Register announcing those species currently under active review. This notice announces our active review of the WDPS, which is currently listed as endangered.

Background information about this species, including their endangered listing, related critical habitat designation, recovery planning, and protective regulations, is available on the NMFS Alaska Region Web site at https://alaskafisheries.noaa.gov/.

Determining if a Species Is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made solely on the basis of the best scientific and commercial data available after taking into account those efforts, if any, being made by any State or foreign nation to protect such species.

Application of the DPS Policy

The western DPS of Steller sea lion was listed as a DPS of a vertebrate taxon. In the application of the DPS Policy, we are responsible for determining whether species, subspecies, or DPSs of marine and anadromous species are threatened or endangered under the ESA. A DPS is defined in the February 7, 1996, Policy Regarding the Recognition of Distinct Vertebrate Population Segments (61 FR 4722). For a population to be listed under the ESA as a DPS, three elements are considered: (1) The discreteness of the population segment in relation to the remainder of the species to which it belongs; (2) the significance of the population segment to the species to which it belongs; and (3) the population segment's conservation status in relation to the Act's standards for listing (i.e., is the population segment, when treated as if it were a species, endangered or threatened?). DPSs of vertebrate species, as well as subspecies of all listed species, may be proposed for separate reclassification or for removal from the List. As required by the DPS policy, we will apply the DPS policy during the 5-year review.

Public Solicitation of New Information

To ensure that the 5-year review is complete and based on the best available scientific and commercial information, we are soliciting relevant information. The 5-year review will consider the best scientific and commercial data that has become available since the listing determination. Categories of requested information include (1) species biology including population trends, distribution, abundance, demographics, population structure, ecology, behavior, and genetics; (2) habitat conditions including amount, distribution, and suitability; (3) conservation measures that benefit the species, including monitoring data demonstrating the effectiveness of such measures in addressing identified limiting factors or threats; (4) data concerning status and trends of identified threats; (5) information that may affect determinations regarding the composition of the WDPS; and (6) other new information.

Authority: 16 U.S.C. 1531 et seq.

Dated: December 4, 2017.
Angela Somma,
Chief, Endangered Species Division, Office of Protected Resources, National Marine Fisheries Service.

[FR Doc. 2017-26435 Filed 12-7-17; 8:45 am]

BILLING CODE 3510-22-P